DEPARTMENT OF HEALTH AND HUMAN SERVICES

Health Resources and Services Administration

Notice of Filing of Annual Reports of Federal Advisory Committee

Notice is hereby given that pursuant to section 13 of Public Law 92-463, fiscal years 1999 and 2000 annual reports for the following Health Resources and Services Administration's Federal advisory committee has been filed with the Library of Congress: Health Professions and Nurse Education Special Emphasis Panel.

Copies are available to the public for inspection at the Library of Congress Newspaper and Current Periodical Reading Room, James Madison Memorial Building, Room LM-133, First Street and Independence Avenue, SE., Washington, DC. Copies may be obtained from: Jennifer Burks, M.S.N., Executive Secretary, Health Professions and Nurse Education Special Emphasis Panel, Parklawn Building, Room 8C-23, 5600 Fishers Lane, Rockville, Maryland 20857, Telephone (301) 443-6339.

Dated: February 20, 2001.
Jane M. Harrison,
Director, Division of Policy Review and Coordination.

[FR Doc. 01-4686 Filed 2-26-01; 8:45 am]

BILLING CODE 4160-15-P